NATIONAL ARCHIVES AND RECORDS ADMINISTRATION

Nixon Presidential Historical Materials; Opening of Materials

AGENCY: National Archives and Records Administration.

ACTION: Notice of opening of materials.

SUMMARY: This notice announces the opening of additional files from the Nixon Presidential historical materials. Notice is hereby given that, in accordance with sections 104 of Title I of the Presidential Recordings and Materials Preservation Act (PRMPA, 44 U.S.C. 2111 note) and 1275.42(b) of the PRMPA Regulations implementing the Act (36 CFR Part 1275), the agency has identified, inventoried, and prepared for public access integral file segments among the Nixon Presidential historical materials.

DATES: The National Archives and Records Administration (NARA) intends to make these materials described in this notice available to the public beginning November 16.

In accordance with 36 CFR 1275.44, any person who believes it necessary to file a claim of legal right or privilege concerning access to these materials should notify the Archivist of the United States in writing of the claimed right, privilege, or defense before October 31, 2005.

ADDRESSES: The materials will be made available to the public at the National Archives at College Park research room, located at 8601 Adelphi Road, College Park, Maryland beginning at 8:45 a.m. on November 16, 2005. Researchers must have a NARA researcher card, which they may obtain when they arrive at the facilities.

Petitions asserting a legal or constitutional right or privilege which would prevent or limit access must be sent to the Archivist of the United States, National Archives at College Park, 8601 Adelphi Road, College Park, Maryland 20740-6001.

FOR FURTHER INFORMATION CONTACT: Michael Woywod, Acting Director, Nixon Presidential Materials Staff, 301-837-3117.

SUPPLEMENTARY INFORMATION: The integral file segments of textual materials to be opened on November 16, 2005, consists of 40.8 cubic feet. The White House Central Files Unit is a permanent organization within the White House complex that maintains a central filing and retrieval system for the records of the President and his staff.

1. One file group from the Staff Member and Office Files, listed below, will be made available to the public. This consists of materials that were transferred to the Central Files but were not incorporated into the Subject Files.

File Group: Joseph Fred Buzhardt Jr.: Pardon File for James R. Hoffa. Volume: 2.6 cubic feet.

2. White House Central Files, Name Files: Volume: 1 Cubic Foot. Nine files are from the White House Central Files, Name Files. The Name Files were used for routine materials filed alphabetically by the name of the correspondent; copies of documents in the Name Files are usually filed by subject in the subject files. The Name Files relating to the following nine individuals will be made available with this opening: Bessell, Peter; Malchow, Karin; Massa, Kevin; Rehnquist, William; Rockefeller, Nelson; Schneider, Joseph E.; Vanoun, Sander; Weegar, Hannah; Whalen, Steve.

3. In accordance with the provisions of Executive Order 12958, as amended, several series within the National Security Council files have been systematically reviewed for declassification and will be made available.

National Security Council Files series: Volume: 35.2 cubic feet.

4. Previously restricted materials Volume: 2 cubic feet.

A number of documents which were previously withheld from public access have been re-reviewed for release and or declassified under the provisions of Executive Order 12958, as amended, or in accordance with 36 CFR 1275.56 (Public Access Regulations).

Public access to some of the items in the file segments listed in this notice will be restricted as outlined in 36 CFR 1275.50 or 1275.52 (Public Access Regulations).

Dated: September 26, 2005.
Allen Weinstein,
Archivist of the United States.

[FR Doc. 05-19571 Filed 9-29-05; 8:45 am]

BILLING CODE 7515-01-P